POSTAL SERVICE

39 CFR Part 111

Address Management Services—Elimination of the Manual Card Option for Address Sequencing Services

AGENCY: Postal Service™.

ACTION: Proposed rule.

SUMMARY: The Postal Service proposes to revise Mailing Standards of the United States Postal Service, Domestic Mail Manual (DMM®) 507.8 to eliminate the manual cards option for Address Sequencing service.

DATES: We must receive your comments on or before August 18, 2010.

ADDRESSES: Mail or deliver written comments to the Manager, Mailing Standards, U.S. Postal Service®, 475 L'Enfant Plaza SW., Room 3436, Washington DC 20260-3436. You may inspect and photocopy all written comments at USPS® Headquarters Library, 475 L'Enfant Plaza SW., 11th Floor N, Washington DC between 9 a.m. and 4 p.m., Monday through Friday. E-mail comments concerning the proposed price eligibility, containing the name and address of the commenter, may be sent to: MailingStandards@usps.gov, with a subject line of “Address Management Services comments.” Faxed comments are not accepted.

FOR FURTHER INFORMATION CONTACT: Ruth Jones at 901-681-4585, or Bill Chatfield at 202-268-7278.

SUPPLEMENTARY INFORMATION: Current mailing standards provide for the sequencing of address lists into carrier route walk sequence order by ZIP™ Code. Mailers use this service to become eligible for electronic Computerized Delivery Sequence (CDS) service. CDS service is needed in order to qualify mailings for Enhanced Carrier Route pricing, which requires address sequencing. For the manual option of Address Sequencing service, customers send address cards to the appropriate Address Management Services district office or to the delivery unit for manual processing. Although there were approximately 12 customers in Fiscal Year 2009; for 2010 year-to-date only 3 customers have requested this service. USPS recommends that these customers use the electronic option for Address Sequencing service which analyzes if a customer's address list has sufficient saturation at the 5-digit ZIP Code level to qualify for CDS service. Electronic Address Sequencing (EAS) service provides mailers an electronic process that is more economical and efficient than manually sequencing cards. The electronic process provides customers with a faster processing turnaround and more consistent results.

Procedures

There is no price difference between the card and electronic options for Address Sequencing service; therefore, we propose to move customers to the electronic version, which conveys information in a secured electronic format. Currently, 2 of the 12 card option Address Sequencing customers already also subscribe to EAS service. Beginning in January 2011, the Postal Service proposes that the Address Sequencing card option would no longer be available to mailers.

We also propose to improve DMM sections 507.8.2 through 507.8.7 by organizing, consolidating and rearranging the flow of information so that it is easier to read.

Although we are exempt from the notice and comment requirements of the Administrative Procedure Act [5 U.S.C. of 553 (b), (c)] regarding proposed rulemaking by 39 U.S.C. 410(a), we invite public comments on the following proposed revisions to Mailing Standards of the United States Postal Service, Domestic Mail Manual (DMM), incorporated by reference in the Code of Federal Regulations. See 39 CFR part 111.1.

List of Subjects in 39 CFR Part 111

Administrative practice and procedure, Postal Service.

Accordingly, 39 CFR Part 111 is proposed to be amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

500 Additional Mailing Services

* * * * *

507 Mailer Services

* * * * *

[Revise heading of 8.0 as follows:]

8.0 Electronic Address Sequencing (EAS) Service

[Revise title and text of 8.1 as follows:]

8.1 Service Description, Options, and Fees

Electronic Address Sequencing (EAS) service processes a customer's addresses file for walk sequence and/or qualification for Computerized Delivery Sequence (CDS). EAS offers a basic service with two additional service options as explained below. Customers submit their address files to the National Customer Support Center (NCSC) in Memphis, TN, for electronic processing. See Notice 123, Price List, for fees.

8.1.1 Basic Service

The basic service sequences the address files and removes all incorrect or undeliverable addresses. A fee is charged for each incorrect or undeliverable address that is removed. In addition, mailers can choose one of the services in 8.1.2 and/or 8.1.3. Fees are applied as follows:

a. Sequence remaining addresses (no fee).

b. Remove incorrect or undeliverable addresses (fee).

8.1.2 Adding Sequence Numbers for Missing Addresses

This service option sequences the address files, removes all incorrect or undeliverable addresses, adds sequence numbers to all deliverable addresses submitted, and identifies the location of missing addresses. A fee is charged for each incorrect or undeliverable address that is removed. No fee is charged for identifying the location of missing addresses. Fees are applied as follows:

a. Sequence remaining addresses (no fee).

b. Remove incorrect or undeliverable addresses (fee).

c. Identify the location of missing addresses (no fee).

8.1.3 Adding Missing or New Addresses

This service option sequences the address files, removes all incorrect or undeliverable addresses, and adds new or missing addresses (including rural address conversions to city-style addressing). For each 5-digit ZIP Code grouping, the address list must contain 90% to 110% of all possible deliveries. Address groupings include city carrier (residential addresses only); city carrier (business addresses only); city carrier (combination of residential and business addresses); rural and highway contract route addresses; and Post Office box addresses. A fee is charged for each incorrect or undeliverable address that is removed and for each address (possible delivery) that is added to the customer's address list. For apartment or office buildings with a series of addresses for which the USPS provides a range of addresses, the charge is for each address (possible delivery) in the range or series. Customers requesting this service will be allowed only three attempts to qualify a ZIP Code grouping in a 12-month period. Fees are applied as follows:

a. Sequence remaining addresses (no fee).

b. Remove incorrect or undeliverable addresses (fee).

c. Insert missing or new addresses (fee).

[Delete current items 8.2 through 8.7 in their entirety and replace with items 8.2 through 8.4 as follows:]

8.2 Submission and Processing of Electronic Files

8.2.1 Submission of Electronic Files

The customer must submit address files on electronic media in a flat text file to the CDS Department at the NCSC (see 608.8 for address). The customer must not submit an address file in excess of 110% of the possible deliveries for a specific 5-digit ZIP Code delivery area. Additional information is available in the EAS User Guide on RIBBS at http://ribbs.usps.gov.

8.2.2 Delivery Unit Summary

The customer must submit an electronic Delivery Unit Summary for each file submitted indicating the 5-digit ZIP Code to be processed.

8.2.3 Payment

Once payment is received for services provided in 8.1.1 and 8.1.2, the NCSC returns the address file to the customer. For services provided in 8.1.3, all fees must be received prior to fulfillment of CDS data.

8.2.4 Seasonal Addresses

For CDS qualified mailers, addresses receiving mail only during specific seasons (e.g., summer only) are identified in the CDS file.

8.2.5 Address Seeds

For CDS qualified mailers, the USPS will provide seed addresses to list owners for inclusion in their address files for file protection upon request. If a request for sequencing contains a seed address, the owner of the seed address will be notified within 30 days.

8.3 No Charge Services

The following services are provided at no charge for all three levels of service:

a. If the customer includes a rural-style address (RR/box number) in an address file submitted for sequencing, and a street address is assigned to that box number, the correct address is included at no charge.

b. The USPS attempts, but does not guarantee, to make simple corrections to addresses (e.g., obvious spelling errors) that can be identified as specific delivery addresses and are not undeliverable as addressed or nonexistent.

8.4 Submitting Properly Sequenced Mailings

8.4.1 Customer Responsibility

Customers must ensure that mailings are prepared in correct carrier route delivery sequence and resequence an address file when necessary. The USPS does not provide list-sequencing service for mailings not prepared in correct carrier route delivery sequence if the customer is so notified but fails to take corrective action.

8.4.2 Changes

When delivery changes affect delivery sequence, CDS customers will automatically receive an updated electronic file from the USPS.

8.4.3 Out-of-Sequence Mailing

If a mailing is found to be out of sequence, the customer is informed in writing both of the error and that, unless the situation is corrected, the USPS will not provide carrier route sequencing service. If the customer does not take corrective action, the USPS gives written notice that the customer is no longer allowed to submit address files to the NCSC for sequencing. Within 30 days, the customer may file a written appeal with the postmaster who gave notice.

8.4.4 Reinstatement

A customer denied address file sequencing service for a specific ZIP Code may not submit address files to the NCSC for sequencing where that sequencing service was terminated for 1 year after the effective date of termination. After that time, the customer is again authorized to submit the ZIP Code address files to the NCSC for sequencing. At any time during the year after termination of service, the customer may renew the submission if the NCSC is provided evidence that the customer has taken all necessary action to correct the past errors.

* * * * *

509 Other Services

1.0 Address Information Systems Products

* * * * *

1.4 Carrier Route Schemes

[Revise text of 1.4 as follows:]

Under, 507.7.2.2, Carrier Route File, a mailer may ask for a copy of the city scheme used by clerks for sorting mail. The mailer is responsible for sorting using the current bimonthly Carrier Route File scheme.

* * * * *

We will publish an appropriate amendment to 39 CFR Part 111 to reflect these changes if our proposal is adopted.

Stanley F. Mires,
Chief Counsel, Legislative.

[FR Doc. 2010-17460 Filed 7-16-10; 8:45 am]

BILLING CODE 7710-P